DEPARTMENT OF TRANSPORTATION

Federal Aviation Administration

14 CFR Part 97

[Docket No. 31098; Amdt. No. 3715]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 26, 2016. The compliance date for each SIAP, associated Takeoff Minimums, and ODP is specified in the amendatory provisions.

The incorporation by reference of certain publications listed in the regulations is approved by the Director of the Federal Register as of October 26, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 23, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 10 November 2016

Barter Island, AK, Barter Island, Takeoff Minimums and Obstacle DP, Orig

Barter Island, AK, Barter Island, Takeoff Minimums and Obstacle DP, Orig, CANCELED

Bettles, AK, Bettles, VOR RWY 1, Amdt 1B

Kodiak, AK, Kodiak, ILS Y OR LOC Y RWY 26, Amdt 3A

Platinum, AK, Platinum, Takeoff Minimums and Obstacle DP, Amdt 1A

Scammon Bay, AK, Scammon Bay, Takeoff Minimums and Obstacle DP, Amdt 2

El Dorado, AR, South Arkansas Rgnl At Goodwin Field, ILS OR LOC RWY 22, Amdt 2D

El Dorado, AR, South Arkansas Rgnl At Goodwin Field, RNAV (GPS) RWY 4, Orig-B

El Dorado, AR, South Arkansas Rgnl At Goodwin Field, RNAV (GPS) RWY 22, Orig-B

El Dorado, AR, South Arkansas Rgnl At Goodwin Field, VOR/DME RWY 4, Amdt 10B

Jackson, CA, Westover Field Amador County, Takeoff Minimums and Obstacle DP, Amdt 1

Long Beach, CA, Long Beach/Daugherty Field/, ILS OR LOC RWY 30, Amdt 33

Long Beach, CA, Long Beach/Daugherty Field/, RNAV (GPS) Z RWY 30, Amdt 3

Long Beach, CA, Long Beach/Daugherty Field/, RNAV (RNP) RWY 12, Amdt 2

Long Beach, CA, Long Beach/Daugherty Field/, RNAV (RNP) RWY 25R, Amdt 1

Long Beach, CA, Long Beach/Daugherty Field/, RNAV (RNP) Y RWY 30, Amdt 2

Palm Springs, CA, Palm Springs Intl, RNAV (RNP) Y RWY 13R, Amdt 1B, CANCELED

Palm Springs, CA, Palm Springs Intl, RNAV (RNP) Z RWY 13R, Amdt 1

San Andreas, CA, Calaveras Co-Maury Rasmussen Field, Takeoff Minimums and Obstacle DP, Amdt 1

San Diego, CA, San Diego Intl, Takeoff Minimums and Obstacle DP, Amdt 9

Santa Ana, CA, John Wayne Airport-Orange County, LOC BC RWY 2L, Amdt 13

Santa Ana, CA, John Wayne Airport-Orange County, RNAV (GPS) Y RWY 2L, Amdt 2

Santa Ana, CA, John Wayne Airport-Orange County, RNAV (RNP) Z RWY 2L, Orig

Santa Ana, CA, John Wayne Airport-Orange County, RNAV (RNP) Z RWY 20R, Amdt 2

Santa Barbara, CA, Santa Barbara Muni, Takeoff Minimums and Obstacle DP, Amdt 8

Georgetown, DE, Delaware Coastal, Takeoff Minimums and Obstacle DP, Amdt 4B

Hilo, HI, Hilo Intl, RNAV (GPS) RWY 21, Orig-B

Hilo, HI, Hilo Intl, RNAV (GPS) RWY 26, Orig-D

Hilo, HI, Hilo Intl, VOR-B, Orig-C

Hilo, HI, Hilo Intl, VOR/DME OR TACAN RWY 26, Amdt 5D

Hilo, HI, Hilo Intl, VOR/DME OR TACAN-A, Amdt 7C

Forest City, IA, Forest City Muni, NDB RWY 33, Amdt 2B

Forest City, IA, Forest City Muni, RNAV (GPS) RWY 33, Orig-A

Forest City, IA, Forest City Muni, VOR/DME-A, Amdt 3A

Hampton, IA, Hampton Muni, VOR/DME RWY 35, Amdt 1E

Keokuk, IA, Keokuk Muni, NDB RWY 14, Amdt 12B

Keokuk, IA, Keokuk Muni, NDB RWY 26, Amdt 1B

Mount Pleasant, IA, Mount Pleasant Muni, NDB RWY 33, Amdt 6B

Driggs, ID, Driggs-Reed Memorial, LAMON TWO GRAPHIC DP

Grangeville, ID, Idaho County, MELLR ONE GRAPHIC DP

Grangeville, ID, Idaho County, MELLR TWO GRAPHIC DP, CANCELED

Grangeville, ID, Idaho County, RNAV (GPS) RWY 7, Amdt 1A, CANCELED

Grangeville, ID, Idaho County, RNAV (GPS) RWY 8, Orig

Grangeville, ID, Idaho County, RNAV (GPS) RWY 25, Amdt 1A, CANCELED

Grangeville, ID, Idaho County, RNAV (GPS) RWY 26, Orig

Grangeville, ID, Idaho County, Takeoff Minimums and Obstacle DP, Orig

Grangeville, ID, Idaho County, Takeoff Minimums and Obstacle DP, Amdt 1, CANCELED

Canton, IL, Ingersoll, RNAV (GPS) RWY 36, Amdt 1B

Macomb, IL, Macomb Muni, LOC RWY 27, Amdt 3B

Macomb, IL, Macomb Muni, RNAV (GPS) RWY 9, Amdt 1B

Greensburg, IN, Greensburg Municipal, VOR-A, Amdt 2D

Indianapolis, IN, Greenwood Muni, VOR-A, Amdt 5A

Winchester, IN, Randolph County, RNAV (GPS) RWY 8, Amdt 1A

St Francis, KS, Cheyenne County Muni, NDB-A, Orig

St Francis, KS, Cheyenne County Muni, NDB OR GPS RWY 32, Amdt 1A, CANCELED

St Francis, KS, Cheyenne County Muni, RNAV (GPS) RWY 32, Orig

St Francis, KS, Cheyenne County Muni, Takeoff Minimums and Obstacle DP, Orig

Albert Lea, MN, Albert Lea Muni, VOR/DME RWY 35, Amdt 1B

Austin, MN, Austin Muni, RNAV (GPS) RWY 17, Amdt 1B

Austin, MN, Austin Muni, RNAV (GPS) RWY 35, Amdt 1B

Monroe, NC, Charlotte-Monroe Executive, ILS OR LOC RWY 5, Amdt 2

Monroe, NC, Charlotte-Monroe Executive, RNAV (GPS) RWY 5, Amdt 2

Monroe, NC, Charlotte-Monroe Executive, RNAV (GPS) RWY 23, Amdt 1

Eugene, OR, Mahlon Sweet Field, ILS OR LOC RWY 16L, Amdt 1A

Eugene, OR, Mahlon Sweet Field, ILS OR LOC RWY 16R, ILS RWY 16R (SA CAT I), ILS RWY 16R (CAT II), ILS RWY 16R (CAT III), Amdt 37

Eugene, OR, Mahlon Sweet Field, VOR-A, Amdt 7A

Eugene, OR, Mahlon Sweet Field, VOR OR TACAN RWY 16R, Amdt 5B

Eugene, OR, Mahlon Sweet Field, VOR OR TACAN RWY 34L, Amdt 5A

Greenwood, SC, Greenwood County, NDB RWY 27, Amdt 2

Greenwood, SC, Greenwood County, RNAV (GPS) RWY 9, Orig

Greenwood, SC, Greenwood County, RNAV (GPS) RWY 27, Orig

Greenwood, SC, Greenwood County, Takeoff Minimums and Obstacle DP, Amdt 1

Greenwood, SC, Greenwood County, VOR RWY 9, Amdt 14

College Station, TX, Easterwood Field, VOR/DME RWY 28, Amdt 13A

Houston, TX, David Wayne Hooks Memorial, LOC RWY 17R, Amdt 3C

Midland, TX, Midland Intl Air & Space Port, RADAR-1, Amdt 7

Ellensburg, WA, Bowers Field, Takeoff Minimums and Obstacle DP, Amdt 2B

Wenatchee, WA, Pangborn Memorial, ILS X RWY 12, Orig-A, CANCELED

Wenatchee, WA, Pangborn Memorial, ILS Y RWY 12, Amdt 1

Wenatchee, WA, Pangborn Memorial, ILS Z RWY 12, Orig

Wenatchee, WA, Pangborn Memorial, RNAV (RNP) RWY 12, Amdt 1

Wenatchee, WA, Pangborn Memorial, RNAV (RNP) Z RWY 30, Amdt 1

Wenatchee, WA, Pangborn Memorial, VOR-A, Amdt 9

Wenatchee, WA, Pangborn Memorial, VOR-B, Orig

Wenatchee, WA, Pangborn Memorial, VOR/DME-C, Amdt 4A, CANCELED

[FR Doc. 2016-25784 Filed 10-25-16; 8:45 am]

BILLING CODE 4910-13-P